DEPARTMENT OF TRANSPORTATION

Office of the Secretary

Notice of Applications for Certificates of Public Convenience and Necessity and Foreign Air Carrier Permits Filed Under Subpart B (Formerly Subpart Q) During the Week Ending August 24, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the answer period DOT may process the application by expedited procedures. Such procedures may consist of the adoption of a show-cause order, a tentative order, or in appropriate cases a final order without further proceedings.

Docket Number: OST-2007-29081.

Date Filed: August 21, 2007.

Due Date for Answers, Conforming Applications, or Motion to Modify Scope: September 11, 2007.

Description: Application of CJSC Aviation Enterprise Tesis, (“Tesis”), requesting a foreign air carrier permit authorizing (i) The carriage in scheduled foreign air transportation of property and mail on three following routes: (a) Khabarovsk, Russia-Anchorage, AK-New York, NY-Miami, FL (b) Moscow, Russia-via Shannon/Gander-New York, New York, Miami, FL. (ii) The Charter air transportation of property and mail between any point or points in the Russian Federation and any point or points in the territory of the United States; and to engage in such other charter services. (iii) To engage in such other charter trips in foreign air transportation. Applicant further requests that it be authorized to operate under the name and style of “CJSC Aviation Enterprise Tesis” and/or “Aviation Enterprise Tesis” or “Tesis Airlines.”

Renee V. Wright,
Program Manager, Docket Operations, Federal Register Liaison.

[FR Doc. E7-18563 Filed 9-20-07; 8:45 am]

BILLING CODE 4910-9X-P